DEPARTMENT OF LABOR

Office of the Secretary

Submission for OMB Review: Comment Request

March 29, 2006.

The Department of Labor (DOL) has submitted the following public information collection request (ICR) to the Office of Management and Budget (OMB) for review and approval in accordance with the Paperwork Reduction Act of 1995 (Pub. L. 104-13,44 U.S.C. Chapter 35). A copy of this ICR, with supporting documentation, may be obtained by calling the Department of Labor. To obtain documentation contact Ira Mills on 202-693-4122 (this is not a toll-free number) or E-Mail: Mills.Ira@dol.gov or by accessing this link: http://www.doleta.gov/OMBControlNumber.cfm.

Comments should be sent to Office of Information and Regulatory Affairs, Attn: OMB Desk Officer for ETA, Office of Management and Budget, Room 10235, Washington, DC 20503, 202-395-7316 (this is not a toll free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Employment and Training Administration (ETA).

Type of Review: New Collection.

Title: Alternative Trade Adjustment Assistance Activities Report (ATAAAR).

OMB Number: 1205-0NEW.

Frequency: Quarterly.

Affected Public: State, Local, or Tribal Government.

Type of Response: Recordkeeping and Reporting.

Number of Respondents: 50.

Annual Responses: 200.

Average Response time: 50 minutes.

Total Annual Burden Hours: 166.

Total Annualized Capital/Startup Costs: $120,250.

Total Annual Costs (operating/maintaining systems or purchasing services): $120,250.

Description: The Division of Trade Adjustment Assistance (DTAA) needs key workload data on ATAA to measure program activities and to allocate program and administrative funds to the State Agencies administering the Trade programs for the Secretary. States will provide this information on the ATAAAR.

Ira L. Mills,
Departmental Clearance Officer/Team Leader.

[FR Doc. E6-4835 Filed 4-3-06; 8:45 am]

BILLING CODE 4510-30-P